DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160, the Department of the Army announces the following committee meeting:

Name of Committee: Army Science Board (ASB).

Date(s) of Meeting: May 20-21, 2008.

Time(s) of Meeting: 0800-1700, May 20, 2008-1300-1600, May 21, 2008.

Place of Meeting: Minute Maid Park, 6580 Fannin Street, Houston, TX.

FOR FURTHER INFORMATION CONTACT: For information please contact Ms. Sharon Harvey at sharon.harvey1@us.army.mil or (703) 604-7466 or Mr. Wayne Joyner at wayne.joyner@saalt.army.mil or (703) 604-7490. Written submissions are to be submitted to the following address: Army Science Board, ATTN: Designated Federal Officer, 2511 Jefferson Davis Highway, Suite 11500, Arlington, VA 22202-3911.

SUPPLEMENTARY INFORMATION: Proposed Agenda: The Army Science Board will meet on May 20-21, 2008 at Minute Maid Park, Houston, TX. Purpose of the meeting on both days is to allow each study to collect data and hold discussions. Study topics include: Generation Force Functional Census, Institutionalization of Innovative Army Organizations, Information Operations, LandWarNet, and Persistent Communications, Surveillance and Reconnaissance.

Filing Written Statement: Pursuant to 41 CFR 102-3.140d, the Committee is not obligated to allow the public to speak; however, interested persons may submit a written statement for consideration by the Subcommittees. Individuals submitting a written statement must submit their statement to the Designated Federal Officer (DFO) at the address listed (see FOR FURTHER INFORMATION CONTACT). Written statements not received at least 10 calendar days prior to the meeting, may not be provided to or considered by the subcommittees until its next meeting.

The DFO will review all timely submissions with the subcommittee Chairs and ensure they are provided to the specific subcommittee members before the meeting. After reviewing written comments, the subcommittee Chairs and the DFO may choose to invite the submitter of the comments to orally present their issue during a future open meeting.

The DFO, in consultation with the subcommittee Chairs, may allot a specific amount of time for the members of the public to present their issues for review and discussion.

Brenda S. Bowen,
Army Federal Register Liaison Officer.

[FR Doc. E8-9450 Filed 4-29-08; 8:45 am]

BILLING CODE 3710-08-P